DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: National Survey of Fishing, Hunting, and Wildlife-Associated Recreation (FHWAR) Cell Phone and Debit Card Test.

OMB Control Number: None.

Form Number(s): Control Advance Letter FHW-W1[T], Prenotice Postcard for Cell Phone Sample FHW-W1[C1], Advance Letter for Cell Phone Sample FHW-W1[C2], Advance Letter for Debit Card Sample FHW-W1[D].

Type of Request: New collection.

Burden Hours: 254.

Number of Respondents: 1,500.

Average Hours per Response: 8 minutes.

Needs and Uses: The U.S. Fish and Wildlife Service (FWS) and the U.S. Census Bureau plan to conduct (covered under separate OMB clearance number 1018-0088) the 2011 National Survey of Fishing, Hunting, and Wildlife-Associated Recreation (FHWAR) which is authorized under the Fish and Wildlife Act of 1956 and the Wildlife and Sport Fish Restoration Programs Improvement Act of 2000. The Census Bureau is authorized to conduct the FHWAR under Title 13, United States Code Section 8(b). The FHWAR data, collected approximately every five years, assist Federal and State agencies in administering the Sport Fish and Wildlife Restoration grant programs and provide up-to-date information on the uses and demands for wildlife-related recreation resources, trends in uses of those resources, and a basis for developing and evaluating programs and projects to meet existing and future needs.

The FHWAR uses an address-based sample selected from the Census Bureau's Master Address File (MAF). Interviewing is conducted using Computer-Assisted Telephone Interviewing (CATI) and Computer-Assisted Personal Interviewing (CAPI). Through research conducted by Relevate, Lexis Nexis, and by researchers at the Census Bureau's three telephone centers, we estimate that we will obtain telephone numbers for 47,891 sample households that will be eligible for CATI interviewing. With a total household sample of 81,955, this leaves 34,064 households eligible for a CAPI interview. Due to the cost of conducting personal visit interviews, the 2011 FHWAR budget will only fund 5,154 CAPI interviews. These 5,154 cases will be subsampled from the 34,064 cases for which we do not have a household telephone number.

A CAPI sample in the FHWAR is particularly important because households with available phone numbers may differ in characteristics from those without telephones and those with unlisted phone numbers. By decreasing our sample from 34,064 to 5,154, we are introducing additional variance in our survey data.

The purpose of the Cell Phone and Debit Card Test is to research alternative survey designs that could increase the number of CATI interviews while reducing the variance associated with conducting fewer CAPI interviews.

Researching comparable alternatives to CAPI interviewing is important since the FWS has limited funding to conduct the survey. An FHWAR CAPI interview is estimated to cost approximately $600 per case, while a CATI interview is estimated to cost $65 per case.

We plan to conduct a test in the first wave of interviewing (the FHWAR is conducted in three waves) that includes three panels of 500 households each. We will select the test cases from the remaining cases (approximately 28,910 cases) without phone numbers after the production CAPI sample is selected. These 1,500 cases will remain in the CATI sample; they will not be sent for CAPI interviewing.

The first panel will receive an advance letter with a cell phone. The advance letter will ask that a household member call the telephone center and complete an interview using the cell phone. The telephone centers will also attempt to contact these households using the assigned cell phone telephone number. The second panel will receive an advance letter and a $25 incentive. The advance letter will ask that a household member call the telephone center to complete an interview and accept the prepaid debit or gift card as a “thank you” for participating. The third panel will only receive an advance letter that requests a household member call the telephone center to complete an interview. (Note: The only way that contact will be made with households in the second and third panels will be if household respondents call the telephone center.)

The test data from these three panels will not be included with the production FHWAR data and the FWS will not have access to the data.

If this study proves successful, it may also provide an option for future FHWAR surveys and other Census Bureau surveys interested in reducing field data collection costs.

Affected Public: Households or individuals.

Frequency: One-time.

Respondent's Obligation: Voluntary.

Legal Authority: Title 13 U.S.C., Section 8(b).

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin,OMB Desk Officer either by fax (202-395-7245) or e-mail (bharrisk@omb.eop.gov).

Dated: January 6, 2011.
Glenna Mickelson,
Management Analyst, Office of the Chief Information Officer.

[FR Doc. 2011-313 Filed 1-10-11; 8:45 am]

BILLING CODE 3510-07-P